ENVIRONMENTAL PROTECTION AGENCY

[FRL-7126-6]

Program Requirement Revisions related to the Public Water System Supervision Program for the States of Connecticut, Rhode Island, Vermont and the Commonwealth of Massachusetts

AGENCY: Environmental Protection Agency (EPA).

ACTION: Notice.

SUMMARY: Notice is hereby given that the States of Connecticut, Rhode Island, Vermont and the Commonwealth of Massachusetts are in the process of revising their approved Public Water System Supervision Programs to meet the requirements of the Safe Drinking Water Act (SDWA).

EPA has determined that the Revised Public Water System Definitions for the State of Connecticut and the Commonwealth of Massachusetts are no less stringent than the corresponding revised Federal definition, as authorized under the Safe Drinking Water Act Amendments of 1996 and final rule provided on April 28, 1998 (63 FR 23362). Therefore, EPA intends to approve this Public Water System Supervision Program requirement for both Connecticut and Massachusetts.

The State of Connecticut has adopted drinking water regulations for Synthetic Organic Chemicals and Inorganic Chemicals (also known as Phase II, Phase IIB, and Phase V Drinking Water Regulations) that correspond to the National Primary Drinking Water Regulations promulgated by EPA on January 30, 1991 (56 FR 3526), July 1, 1991 (56 FR 30266) and July 17, 1992 (57 FR 31776) respectively. After additional review of the submitted documentation, EPA has determined that the State program revisions for its Phase II, Phase IIB and Phase V Drinking Water Regulations are no less stringent than the corresponding Federal regulations. Therefore, EPA intends to approve these Public Water System Supervision Program requirements for Connecticut.

In addition, the State of Connecticut has adopted drinking water regulations for controlling lead and copper in drinking water that correspond to the National Primary Drinking Water Regulations promulgated on June 7, 1991 (56 FR 26460). After additional review of the submitted documentation, EPA has determined that Connecticut's Lead and Copper Rule program revisions are no less stringent than the corresponding Federal regulations. Therefore, EPA intends to approve these Public Water System Supervision Program requirements for Connecticut.

The State of Rhode Island has adopted drinking water regulations for the Phase II and Phase IIB (Synthetic Organic Chemicals and Inorganic Chemicals) Rules that correspond to the National Primary Drinking Water Regulations promulgated by EPA on January 30, 1991 (56 FR 3526) and July 1, 1991 (56 FR 30266) respectively. After review of the submitted documentation, EPA has determined that Rhode Island's Phase II and Phase IIB Rules are no less stringent than the corresponding Federal regulations. Therefore, EPA intends to approve these Public Water System Supervision Program requirements for Rhode Island.

The States of Rhode Island and Vermont have revised their Public Water System Supervision (PWSS) primacy programs by adopting regulations for their respective Consumer Confidence Report Rule that correspond to 40 CFR part 141, subpart O. After review of the submitted documentation, EPA has determined that Rhode Island's and Vermont's Consumer Confidence Report Rules are no less stringent than the corresponding Federal regulation. Therefore, EPA intends to approve these Public Water System Supervision Program requirements for Rhode Island and Vermont.

DATES: All interested parties may request a public hearing for any of the above EPA determinations. A request for a public hearing must be submitted within thirty (30) days of this Federal Register publication date to the Regional Administrator at the address shown below. Frivolous or insubstantial requests for a hearing may be denied by the Regional Administrator. However, if a substantial request for a public hearing is made by this date, a public hearing will be held. If no timely and appropriate request for a hearing is received, and the Regional Administrator does not elect to hold a hearing on his/her own motion, this determination shall become final and effective thirty (30) days after the publication of this Federal Register notice. Any request for a public hearing shall include the following information: (1) The name, address, and telephone number of the individual organization, or other entity requesting a hearing; (2) a brief statement of the requesting person's interest in the Regional Administrator's determination; (3) information that the requesting person intends to submit at such hearing; and (4) the signature of the individual making the request, or if the request is made on behalf of an organization or other entity, the signature of a responsible official of the organization or other entity.

ADDRESSES: All documents relating to this determination are available for inspection between the hours of 8:30AM and 4:00PM, Monday through Friday, at the following office(s): U.S. Environmental Protection Agency, Office of Ecosystem Protection, One Congress Street, 11th floor, Boston, MA 02114.

For documents specific to that State/Commonwealth:

Massachusetts Department of Environmental Protection, Drinking Water Program, One Winter Street, Boston, MA 02108.

CT Department of Public Health, Water Supplies Section, 450 Capitol Avenue, P.O. Box 340308—51 WAT, Hartford, CT 06134-0308.

Rhode Island Department of Health, Office of Drinking Water Quality, 3 Capitol Hill, Cannon Building, Room 209, Providence, RI 02908-5097.

Vermont Department of Environmental Conservation, Water Supply Division, 103 South Main Street, Waterbury, VT 05676.

FOR FURTHER INFORMATION CONTACT: Barbara McGonagle, Office of Ecosystem Protection (telephone 617-918-1608).

SUPPLEMENTARY INFORMATION:

Authority: Section 1401 and Section 1413 (U.S.C. 300g-2) of the Safe Drinking Water Act, as amended (1996), and 40 CFR 142.10 of the National Primary Drinking Water Regulations.

Dated: December 19, 2001.
Robert W. Varney,
Regional Administrator, EPA-New England.

[FR Doc. 02-296 Filed 1-4-02; 8:45 am]

BILLING CODE 6560-50-P